DEPARTMENT OF VETERANS AFFAIRS

[OMB Control No. 2900-0166]

Agency Information Collection Activity Under OMB Review: Application for Ordinary Life

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before March 14, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0166” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0166” in any correspondence.

SUPPLEMENTARY INFORMATION:

Authority: 44 U.S.C. 3501-21.

Title: Application for Ordinary Life, VA Form 29-8700, 29-8700a, 29-8700b, 29-8700c, 29-8700d, 29-8700e, 29-8701, 29-8701a, 29-8701b, 29-8701c, 29-8701d, 29-8701e, 29-8485 and 29-8485a.

OMB Control Number: 2900-0166.

Type of Review: Reinstatement of a Previously Approved Collection.

Abstract: These forms are used by the policyholder to apply for replacement insurance for Modified Life Reduced at Age 65 and 70. The information is required by law, 38 U.S.C. Section 1904. This form was allowed to expire due to high level of work volume and staffing changes.

An agency may not conduct or sponsor, and a person is not required to respond to a collection of information unless it displays a currently valid OMB control number. The Federal Register Notice with a 60-day comment period soliciting comments on this collection of information was published at 82 FR 230 on December 1, 2017, page 57028.

Affected Public: Individuals or Households.

Estimated Annual Burden: 1,284 Hours.

Estimated Average Burden per Respondent: 5 minutes.

Frequency of Response: On Occasion.

Estimated Number of Respondents: 15,400.

By direction of the Secretary.
Cynthia Harvey-Pryor,
Department Clearance Officer, Office of Quality, Privacy and Risk, Department of Veterans Affairs.

[FR Doc. 2018-02714 Filed 2-9-18; 8:45 am]

BILLING CODE 8320-01-P